SMALL BUSINESS ADMINISTRATION

Small Business Size Standards: Waiver of the Nonmanufacturer Rule

AGENCY: U.S. Small Business Administration.

ACTION: Notice of intent to terminate the Nonmanufacturer Rule Class Waiver for Product Service Code (PSC) 3930, Warehouse Trucks and Tractors, Self-Propelled.

SUMMARY: The U.S. Small Business Administration (SBA) intends to terminate a waiver of the Nonmanufacturer Rule for PSC 3930, Warehouse Trucks and Tractors, Self-Propelled based on SBA's recent discovery of small business manufacturers. Terminating this waiver will require recipients of contracts set aside for small businesses, service-disabled veteran-owned small businesses, or participants in SBA's 8(a) Business Development (BD) Program to provide the products of small business manufacturers or processors on such contracts.

DATES: Comments and source information must be submitted by February 27, 2009.

ADDRESSES: You may submit comments and source information to Edith G. Butler, Program Analyst, Small Business Administration, Office of Government Contracting, 409 3rd Street, SW., Suite 8800, Washington, DC 20416.

FOR FURTHER INFORMATION CONTACT: Ms. Edith G. Butler, by telephone at (202) 619-0422; by FAX at (202) 481-1788; or by e-mail at edith.butler@sba.gov.

SUPPLEMENTARY INFORMATION: Section 8(a)(17) of the Small Business Act (Act), 15 U.S.C. 637(a)(17), and SBA's implementing regulations require that recipients of Federal contracts set aside for small businesses, service-disabled veteran-owned small businesses, or participants in the SBA's 8(a) Business Development Program, provide the product of a small business manufacturer or processor, if the recipient is other than the actual manufacturer or processor of the product. This requirement is commonly referred to as the Nonmanufacturer Rule. 13 CFR 121.406(b), 125.15(c). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal government within the last 24 months (13 CFR 121.1202(c)).

The SBA defines “class of products” based on a six digit coding system. The coding system is the Office of Management and Budget North American Industry Classification System (NAICS). In addition, SBA uses Product Service Codes (PSC) to identify particular products within the NAICS code to which a waiver would apply.

SBA announced its decision to grant the waiver for PSC 3930, in the Federal Register on September 13, 1990. Federal Register 38313 (1990). SBA recently became aware of the existence of small business manufacturers for items within this class of product.

For this reason, SBA intends to terminate the class waiver previously granted for Warehouse Trucks and Tractors, Self-Propelled, PSC 3930, under NAICS code 333319.

The public is invited to comment to SBA on the proposed termination of the waiver of the Nonmanufacturer Rule for this class of product specified. All comments by the public will be duly considered by SBA in determining whether to finalize its intent to terminate this waiver.

Dated: February 6, 2009.
Karen C. Hontz,
Director for Government Contracting.

[FR Doc. E9-2981 Filed 2-11-09; 8:45 am]

BILLING CODE 8025-01-P